DEPARTMENT OF ENERGY

Federal Energy Regulatory Commission

[Docket No. P-178-017]

Notice of Intent To Prepare an Environmental Assessment, Availability of Scoping Document, and Soliciting Scoping Comments

September 23, 2003.

Take notice that the following hydroelectric application has been filed with Commission and is available for public inspection:

a. Type of Application: New Major License.

b. Project No.: 178-017.

c. Date filed: April 14, 2003.

d. Applicant: Pacific Gas and Electric Company.

e. Name of Project: Kern Canyon Hydroelectric Project.

f. Location: On the Kern River, near the Town of Bakersfield, Kern County, California. The project occupies approximately 11.26 acres of public land located within the Sequoia National Forest.

g. Filed Pursuant to: Federal Power Act, 16 U.S.C. 791(a)-825(r).

h. Applicant Contact: Mr. Randal S. Livingston, Pacific Gas and Electric Company Power Generation, Mail Code N11E, P.O. Box 770000, San Francisco, CA 94177 (415) 973-7000.

i. FERC Contact: Allison Arnold at (202) 502-6346 or allison.arnold@ferc.gov.

j. Deadline for filing scoping comments: 30 days from the date of this notice.

All documents (original and eight copies) should be filed with: Magalie R. Salas, Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

k. This application is not ready for environmental analysis at this time.

l. The Kern Canyon Project consists of: (1) An existing 150-foot-long and 23-foot-high dam; (2) an existing 3-acre reservoir having a usable capacity of 27-acre-feet; (3) a 1.58-mile-long horseshoe shaped tunnel; (4) a 520-foot-long steel penstock varying in diameter from 96 inches to 90 inches; (5) a powerhouse containing one generating unit with an installed capacity of 9,540 kilowatts; (6) existing transmission facilities; and (7) appurtenant facilities. The project is estimated to generate an average of 67.6 gigawatt hours annually. The dam and existing project facilities are owned by the applicant.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

n. Scoping Process

Pursuant to the National Environmental Policy Act and procedures of the Federal Energy Regulatory Commission (Commission or FERC), the Commission staff intends to prepare an Environmental Assessment (EA) that evaluates the environmental impacts of issuing a new license for the Kern Canyon Hydroelectric Project.

The EA will consider both site-specific and cumulative environmental effects, if any, of the proposed action and reasonable alternatives, and will include an economic, financial, and engineering analysis. Preparation of staff's EA will be supported by a scoping process to ensure identification and analysis of all pertinent issues.

We prepared Scoping Document 1 (SD1) to provide you with information on:

• the Kern Canyon Hydroelectric Project;

• the environmental analysis process we will follow to prepare the EA; and

• our preliminary identification of issues that we will address in the EA.

We invite the participation of governmental agencies, non-governmental organizations, and the general public in the scoping process, and have prepared SD1 to provide information on the proposed project and to solicit written comments and suggestions on our preliminary list of issues and alternatives to be addressed in the EA. The SD1 has been distributed to parties on the Service List for this proceeding and is available from our Public Reference Room at (202) 502-8371. It can also be accessed online at http://www.ferc.gov under the “eLibrary” link.

A site visit was conducted on August 8, 2003 for Commission staff and interested members of the public to visit the project site. The notice for the site visit was published in the Federal Register on July 17, 2003. Comments received from participants during the site visit were incorporated into SD1.

Other than those received during the site visit conducted on August 8, 2003, no comments have been filed to date related to the licensing. Therefore, we do not anticipate at this time that there is a need to hold a public meeting near the project site.

Magalie R. Salas,
Secretary.

[FR Doc. 03-24641 Filed 9-26-03; 8:45 am]

BILLING CODE 6717-01-P